FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201418.

Agreement Name: Hyundai Glovis/Grimaldi North Europe Space Charter Agreement.

Parties: Hyundai Glovis Co., Ltd; Grimaldi Deep Sea S.P.A. and Grimaldi Euromed S.P.A.

Filing Party: Wayne Rohde; Cozen O'Connor.

Synopsis: The agreement authorizes Grimaldi to charter space to Hyundai Glovis in the trade from Baltimore, MD to Zeebrugge, Belgium.

Proposed Effective Date: 2/12/2024.

Location: https://www2.fmc.gov/FMC.Agreements.Web/Public/AgreementHistory/86545.

Agreement No.: 201419.

Agreement Name: WHL/ONE Vessel Sharing Agreement.

Parties: Ocean Network Express Pte. Ltd; Wan Hai Lines Ltd. and Wan Hai Lines (Singapore) PTE. Ltd.

Filing Party: Joshua Stein; Cozen O'Connor.

Synopsis: The Agreement authorizes Wan Hai Lines Ltd., Wan Hai Lines (Singapore) PTE Ltd., and Ocean Network Express Pte. Ltd. to operate shared services and to allow each other to charter slots on their vessels on the trade between China, Taiwan, Vietnam on the one hand and ports on the United States West Coast on the other hand.

Proposed Effective Date: 2/14/2024.

Location: https://www2.fmc.gov/FMC.Agreements.Web/Public/AgreementHistory/86546.

Dated: February 20, 2024.
Carl Savoy,
Federal Register Alternate Liaison Officer, Federal Maritime Commission.

[FR Doc. 2024-03727 Filed 2-22-24; 8:45 am]

BILLING CODE 6730-02-P